DEPARTMENT OF TRANSPORTATION

Federal Motor Carrier Safety Administration

[Docket No. FMCSA-2025-0125]

Hours of Service: National Propane Gas Association; Application for Exemption

AGENCY: Federal Motor Carrier Safety Administration (FMCSA), Department of Transportation (DOT).

ACTION: Notice of application for exemption; request for comments.

SUMMARY: FMCSA requests public comment on the application from the National Propane Gas Association (NPGA) for an exemption from various hours-of-service (HOS) requirements between December 15 and March 15 each year to enable the propane industry to better prepare and respond to emergencies threatening human health and safety during winter. The applicant requests the exemption to allow drivers to drive up to 12 hours per day and be on duty up to 15 hours per day, without weekly limits, and to replace the 34-hour restart with a 24-hour restart, with prior notice by NPGA to FMCSA.

DATES: Comments must be received on or before July 31, 2025.

ADDRESSES: You may submit comments identified by Docket Number FMCSA-2025-0125 by any of the following methods:

• Federal eRulemaking Portal: www.regulations.gov. See the Public Participation and Request for Comments section below for further information.

• Mail: Dockets Operations, U.S. Department of Transportation, 1200 New Jersey Avenue SE, West Building, Ground Floor, Washington, DC 20590-0001.

• Hand Delivery or Courier: 1200 New Jersey Avenue SE, West Building, Ground Floor, Washington, DC 20590-0001, between 9 a.m. and 5 p.m., Monday through Friday, except Federal holidays.

• Fax: (202) 493-2251.

Each submission must include the Agency name and the docket number (FMCSA-2025-0125) for this notice. Note that DOT posts all comments received without change to www.regulations.gov, including any personal information included in a comment. Please see the Privacy Act heading below.

Privacy Act: In accordance with 49 U.S.C. 31315(b), DOT solicits comments from the public to better inform its exemption process. DOT posts these comments, including any personal information the commenter provides, to www.regulations.gov, as described in the system of records notice DOT/ALL-14 FDMS (Federal Docket Management System (FDMS)), which can be reviewed at https://www.transportation.gov/individuals/privacy/privacy-act-system-records-notices. The comments are posted without edit and are searchable by the name of the submitter.

FOR FURTHER INFORMATION CONTACT: Mr. Richard Clemente, Driver and Carrier Operations Division; Office of Carrier, Driver and Vehicle Safety Standards, FMCSA; (202) 366-9220; or richard.clemente@dot.gov. If you have questions on viewing or submitting material to the docket, contact Dockets Operations at (202) 366-9826.

SUPPLEMENTARY INFORMATION:

I. Public Participation and Request for Comments

FMCSA encourages you to participate by submitting comments and related materials.

A. Submitting Comments

If you submit a comment, please include the docket number for this notice (FMCSA-2025-0125), indicate the specific section of this document to which the comment applies, and provide a reason for your suggestions or recommendations. You may submit your comments and material online or by fax, mail, or hand delivery, but please use only one of these means. FMCSA recommends that you include your name and a mailing address, an email address, or a phone number in the body of your document so the Agency can contact you if it has questions regarding your submission.

To submit your comment online, go to https://www.regulations.gov/docket/FMCSA-2025-0125/document, click on this notice, click “Comment,” and type your comment into the text box on the following screen.

If you submit your comments by mail or hand delivery, submit them in an unbound format, no larger than 8½ by 11 inches, suitable for copying and electronic filing.

FMCSA will consider all comments and material received during the comment period. Comments received after the comment closing date will be filed in the public docket and will be considered to the extent practicable.

B. Confidential Business Information (CBI)

CBI is commercial or financial information that is both customarily and actually treated as private by its owner. Under the Freedom of Information Act (5 U.S.C. 552), CBI is exempt from public disclosure. If your comments responsive to the notice contain commercial or financial information that is customarily treated as private, that you actually treat as private, and that is relevant or responsive to the notice, it is important that you clearly designate the submitted comments as CBI. Please mark each page of your submission that constitutes CBI as “PROPIN” to indicate it contains proprietary information. FMCSA will treat such marked submissions as confidential under the Freedom of Information Act, and they will not be placed in the public docket of the notice. Submissions containing CBI should be sent to Brian Dahlin, Chief, Regulatory Evaluation Division, Office of Policy, FMCSA, 1200 New Jersey Avenue SE, Washington, DC 20590-0001 or via email at brian.g.dahlin@dot.gov. At this time, you need not send a duplicate hardcopy of your electronic CBI submissions to FMCSA headquarters. Any comments FMCSA receives not specifically designated as CBI will be placed in the public docket for this notice.

C. Viewing Comments and Documents

To view comments, as well as any documents mentioned in this preamble as being available in the docket, go to https://www.regulations.gov insert FMCSA-2025-0125 in the keyword box, select the document tab and choose the document to review. To view comments, click this notice, then click “Browse Comments.” If you do not have access to the internet, you may view the docket by visiting Docket Operations on the ground floor of the DOT West Building, 1200 New Jersey Avenue SE, Washington, DC 20590-0001, between 9 a.m. and 5 p.m., ET Monday through Friday, except Federal holidays. To be sure someone is there to help you, please call (202) 366-9317 or (202) 366-9826 before visiting Dockets Operations.

II. Legal Basis

FMCSA has authority under 49 U.S.C. 31136(e) and 31315(b) to grant exemptions from the Federal Motor Carrier Safety Regulations. FMCSA must publish a notice of each exemption request in the Federal Register (49 CFR 381.315(a)). The Agency must provide the public an opportunity to inspect the information relevant to the application, including the applicant's safety analysis. The Agency must provide an opportunity for public comment on the request.

The Agency reviews the application, safety analyses, and public comments submitted and determines whether granting the exemption would likely achieve a level of safety equivalent to, or greater than, the level that would be achieved absent such exemption, pursuant to the standard set forth in 49 U.S.C. 31315(b)(1). The Agency must publish its decision in the Federal Register (49 CFR 381.315(b)). If granted, the notice will identify the regulatory provision from which the applicant will be exempt, the effective period, and all terms and conditions of the exemption (49 CFR 381.315(c)(1)). If the exemption is denied, the notice will explain the reason for the denial (49 CFR 381.315(c)(2)). The exemption may be renewed (49 CFR 381.300(b)).

III. Applicant's Request

Current Regulatory Requirements

Under 49 CFR 395.3(a)(2) and (3), a property-carrying commercial motor vehicle (CMV) driver may drive only a total of 11 hours during a period of 14 consecutive hours after coming on duty following 10 consecutive hours off duty. Under 49 CFR 395.3(b)(1) and (2), no motor carrier shall permit or require a driver of a property-carrying CMV to drive, nor shall any driver drive a property-carrying CMV, regardless of the number of motor carriers using the driver's services, for any period after having been on duty 60 hours in any period of 7 consecutive days, or having been on duty 70 hours in any period of 8 consecutive days. Additionally, under 49 CFR 395.3(c)(1) or (2), any period of 7 or 8 consecutive days may end with the beginning of an off-duty period of 34 or more consecutive hours.

Applicant's Request

The NPGA requests a five-year exemption for its member company drivers to waive the requirements of 49 CFR 395.3 with prior notice to FMCSA, between the period of December 15th and March 15th, when the need for propane as heating fuel is most urgent. NPGA states that its request is based on the Agency's prior approval of exemption applications for other industries that enable individual drivers to respond to specified conditions with temporary waiver of certain provisions of the HOS regulations. NPGA is the national trade association of the propane industry which has a membership of nearly 2,400 companies, and 36 State and regional associations representing members in all 50 States. Their membership includes retail marketers of propane gas who deliver the fuel to the end user, propane producers, transporters and wholesalers, and manufacturers and distributors of equipment, containers, and appliances.

According to NPGA, the winter of 2024-2025 was the most disruptive in eleven years, as extreme cold snaps, polar vortexes, ice storms and other winter weather affected significant areas of the U.S. between January and late March 2025. The applicant therefore requests exemptions from several provisions.

First, NPGA requests that drivers covered by the exemption be allowed up to 15 hours of on-duty time daily, up to 12 hours of driving time daily, and be allowed to waive the limit on the number of consecutive days that a driver may utilize the exemption. With prior notice to FMCSA by NPGA, any period of six consecutive days during the exemption “window” may end with the beginning of an off-duty period of 24 or more consecutive hours, as opposed to the current option of 34 or more consecutive hours off duty to reset the “weekly” HOS limits.

The requested exemption would also remove the restriction on drivers who have been on duty for 60 hours over seven consecutive days, or 70 hours over eight consecutive days. NPGA believes these waivers would efficiently and effectively allow its members to respond to emergency crises, and indicate that drivers who utilize the special exemption, following prior notice by NPGA to FMCSA, must maintain appropriate documentation to demonstrate the threat to human health and safety within the scope of the special exemption.

NPGA states that the proposed exemption would allow for organizing driver schedules in advance, rather than reacting to an emergency, more efficient responses to critical concerns, and for propane marketers to improve planning before an emergency. Instead of waiting for a crisis to occur, marketers and transporters may secure and procure sufficient supplies in advance and organize their drivers to meet heating demands more efficiently and effectively. To clearly define the “scope” of the request, NPGA provides a brief outline of the Terms and Conditions in their application to apply to those individuals providing propane services for periods of peak consumer demand. Included in this outline is that drivers and motor carriers utilizing the exemption must comply with all other provisions of the Federal Motor Carrier Safety Regulations, including adhering to all conditions in 49 CFR 390.3 not covered by the exemption, and that drivers must also complete the Fatigue and Wellness course provided by the Propane Education and Research Council.

A copy of NPGA's application for exemption is available for review in the docket for this notice.

IV. Request for Comments

In accordance with 49 U.S.C. 31315(b), FMCSA requests public comment from all interested persons on NPGA's application for an exemption from various HOS requirements in 49 CFR 395.3. All comments received before the close of business on the comment closing date will be considered and will be available for examination in the docket at the location listed under the ADDRESSES section of this notice. Comments received after the comment closing date will be filed in the public docket and will be considered to the extent practicable. In addition to late comments, FMCSA will also continue to file, in the public docket, relevant information that becomes available after the comment closing date. Interested persons should continue to examine the public docket for new material.

Larry W. Minor,
Associate Administrator of Policy.

[FR Doc. 2025-12204 Filed 6-30-25; 8:45 am]

BILLING CODE 4910-EX-P